DEPARTMENT OF HEALTH AND HUMAN SERVICES

Agency for Healthcare Research and Quality

Meeting on the Artificial Intelligence in Healthcare Safety Program

AGENCY: Agency for Healthcare Research and Quality (AHRQ), Department of Health and Human Services (HHS).

ACTION: Notice of public meeting.

SUMMARY: HHS is directed by Executive order (E.O.) to establish an Artificial Intelligence (AI) in Healthcare Safety Program in partnership with federally listed Patient Safety Organizations (PSOs). The purpose of this notice is to announce a meeting to discuss implementation of the Executive order to establish the AI in Healthcare Safety Program. This meeting is designed as an interactive forum where participants can provide input on the future of the program.

DATES: The meeting will be held from 12:30 to 4 p.m. eastern on Friday, November 15, 2024.

ADDRESSES: The meeting will be held virtually.

FOR FURTHER INFORMATION CONTACT: Erofile Gripiotis, Program Analyst, Center for Quality Improvement and Patient Safety, AHRQ, 5600 Fishers Lane, Rockville, MD 20857; Telephone (toll free): (866) 403-3697; Telephone (local): (301) 427-1111; TTY (toll free): (866) 438-7231; TTY (local): (301) 427-1130; Email: pso@ahrq.hhs.gov.

SUPPLEMENTARY INFORMATION:

Background

The Patient Safety and Quality Improvement Act of 2005, 42 U.S.C. 299b-21 to 299b-26 (Patient Safety Act), and the related Patient Safety and Quality Improvement Final Rule, 42 CFR part 3 (Patient Safety Rule), published in the Federal Register on November 21, 2008, 73 FR 70731-70814, provide for the Federal listing of Patient Safety Organizations (PSOs), which collect, aggregate, and analyze confidential information (patient safety work product) regarding the quality and safety of healthcare delivery.

The Patient Safety Act also authorizes the development of data standards, known as the Common Formats, to facilitate the aggregation and analysis of non-identifiable patient safety work product collected by PSOs and reported to the Network of Patient Safety Databases (NPSD). (42 U.S.C. 299b-23(b)). The Patient Safety Act and Patient Safety Rule can be accessed at: http://www.pso.ahrq.gov/legislation/.

Section 8(iv) of E.O. 14110 requires the Secretary of HHS, in consultation with the Secretaries of Defense and Veterans Affairs, to establish an AI safety program that, in partnership with PSOs, will:

• establish a common framework for approaches to identifying and capturing clinical errors resulting from AI deployed in healthcare settings as well as specifications for a central tracking repository for associated incidents that cause harm, including through bias or discrimination, to patients, caregivers, or other parties;

• analyze captured data and generated evidence to develop, wherever appropriate, recommendations, best practices, or other informal guidelines aimed at avoiding these harms; and

• disseminate those recommendations, best practices, or other informal guidelines to appropriate stakeholders, including healthcare providers.

Agenda, Registration, and Other Information About the Meeting

AHRQ will be hosting this fully virtual meeting to discuss implementation of the AI in Healthcare Safety Program with members of the public, including PSOs and other interested parties. Agenda topics will include recent AI-related analyses from the NPSD, available program resources, and speakers from the Assistant Secretary for Technology Policy/Office of the National Coordinator for Health Information Technology and the Coalition for Health AI. Active participation and discussion by meeting participants is encouraged, including through breakout sessions.

AHRQ requests that interested persons send an email to SDMeetings@infinityconferences.com for registration information. Before the meeting, an agenda and logistical information will be provided to registrants.

Dated: October 24, 2024.
Marquita Cullom,
Associate Director.

[FR Doc. 2024-25140 Filed 10-30-24; 8:45 am]

BILLING CODE 4160-90-P